OFFICE OF NATIONAL DRUG CONTROL POLICY

Appointment of Members of Senior Executive Services Performance Review Board

AGENCY: Office of National Drug Control Policy [ONDCP].

ACTION: Notice of appointments.

SUMMARY: The following persons have been appointed to the ONDCP Senior Executive Service Performance Review Board: Mr. Jeffery J. Teitz, Ms. Martha Gagne, Mr. Robert W. Denniston, and Ms. Michelle C. Marx.

FOR FURTHER INFORMATION CONTACT: Please direct any questions to Edward H. Jurith, Senior General Counsel (202) 395-6709, Office of National Drug Control Policy, Executive Office of the President, Washington, DC 20503.

Edward H. Jurith,
Senior Counsel.

[FR Doc. 2012-23281 Filed 9-20-12; 8:45 am]

BILLING CODE 3180-02-P